DEPARTMENT OF LABOR

Employment and Training Administration

Comment Request for Information Collection for ETA 9166, Pre-Implementation Planning Checklist Report for State Unemployment Insurance (UI) Information Technology (IT) Modernization Projects; New Collection

AGENCY: Employment and Training Administration (ETA), Labor.

ACTION: Notice.

SUMMARY: The Department of Labor, as part of its continuing effort to reduce paperwork and respondent burden, conducts a preclearance consultation program to provide the general public and Federal agencies with an opportunity to comment on proposed and/or continuing collection of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed.

Building on lessons learned from previous state implementations of modernized UI IT systems, ETA commissioned the development of a UI IT Modernization Pre-Implementation Planning Checklist for states to use prior to “going live” with a new system. The checklist is expected to validate that all necessary system functions are available and/or that alternative workarounds are developed prior to the production launch of the UI IT system to help avoid major disruption of services to UI customers and to prevent delays in making UI benefit payments when due. In addition, the checklist will be used by ETA to identify the technical assistance needs of State Workforce Agencies (SWAs) in support of successful implementation of UI IT Modernization projects. This comprehensive checklist denotes critical functional areas that states should verify prior to launching including, but not limited to, technical IT functions and UI business processes that interface with the new system. The list of critical areas identified in the checklist includes, among others,

• Verification for essential UI Benefit and Tax functions,

• Interstate Connection (ICON) network and UI reporting interfaces,

• System Error handling,

• End-user support mechanisms,

• Alternate access options and usability issues,

• Policies and Procedures development and dissemination

• Technical preparation,

• Call Center and Customer Service operations,

• Staffing and Staff Training on new system operations,

• Help Desk support,

• Management oversight,

• Vendor support and

• Communications.

The new ETA 9166 will be used by the National and regional offices to ensure that states have plans to address critical issues prior to launching a new UI IT system and to identify areas where SWAs may need technical assistance to support successful implementation of UI IT Modernization projects. This information will include the project title and purpose, the project timeline and milestones, and a narrative description of the project implementation status. It will also include explanations of plans or workarounds to address the areas of potential issues identified in the implementation checklist, an explanation of any portion of the project that will experience delays in implementation, mitigation proposals for addressing problems and new project timelines (if applicable), a self-reported designation of the implementation status, and a discussion of identified technical assistance needs for the successful completion of the project.

ETA believes that the use of this checklist as a planning tool will help states ensure the availability of mission critical functions as the state prepares for the launch of a new system and following the launch of a new system.

Currently, ETA is soliciting comments concerning a new collection of information: ETA 9166, Unemployment Insurance (UI) Information Technology (IT) Modernization Pre-Implementation Planning Checklist Report.

DATES: Written comments must be submitted to the office listed in the addressee section below on or before June 30, 2015.

ADDRESSES: Send comments to Paul Bankes, U.S. Department of Labor, Employment and Training Administration, Office of Unemployment Insurance, 200 Constitution Avenue NW., Frances Perkins Bldg. Room S-4524, Washington, DC 20210, telephone number (202) 693-3053 (this is not a toll-free number) or by email: bankes.paul@dol.gov.

SUPPLEMENTARY INFORMATION:

I. Background

The information to be reported on the ETA 9166 report will be used by the National and regional offices to validate that states are positioned to successfully “go live” with a new system and to provide any needed technical assistance as appropriate, in partnership with the Information Technology Support Center operated by the National Association of State Workforce Agencies, in support of successful implementation of UI IT Modernization projects. This information will include the UI IT Modernization project title (e.g. State project or Consortium name) and the associated Report on Pre-Implementation Planning Checklist results. For each sub-element identified in the checklist:

• Provide a brief report detailing the status of the project as it relates to addressing the particular sub-element issue(s);

• provide a self-reported designation of the implementation status;

• provide/attach explanations of any workarounds, if applicable, to be used in implementation;

• provide/attach explanations of any portions of the project that will experience delays in implementation;

• describe any mitigation proposals for addressing any problems;

• describe new project timelines, if applicable; and

• describe any discussion of identified technical assistance needs for the successful completion of the project or any sub-element of the project.

The collection will enable ETA to identify and provide appropriate technical assistance needs to a state on issues in the checklist and ensure states have plans for addressing critical issues prior to launching a new UI IT system.

II. Review Focus

The Department is particularly interested in comments which:

* Evaluate whether the proposed collection of information is necessary to describe the status of the SWA's new UI IT system activities, including whether the information will have practical utility;

* Evaluate the accuracy of the agency's estimate of the burden of the proposed collection of information, including the validity of the methodology and assumptions used;

* Enhance the quality, utility, and clarity of the information to be collected; and

* Minimize the burden of the collection of information on those who are to respond, including the use of appropriate automated, electronic, mechanical, or other technological collection techniques or other forms of information technology, e.g., permitting electronic submissions of responses.

III. Current Actions

Type of Review: New collection.

Title: Unemployment Insurance (UI) Information Technology (IT) Modernization Pre-Implementation Planning Checklist Report, ETA 9166.

OMB Number: 1205—0NEW.

Affected Public: State Government.

Estimated Total Annual Respondents: 3-5.

Annual Frequency: One-time response.

Estimated Total Annual Responses: 3-5.

Average Time per Response: 120 hours.

Estimated Total Burden Hours: 360-600 hours per year.

Total Burden Cost (Capital/Startup): $0.

Total Burden Cost (Reporting*): $18,979-$31,620.

* We envision the report will be completed by some combination of an IT Project Manager and the state's UI Director. Based on budget allocations, a figure of $52.72 was derived for the average hourly wage of state agency UI Directors and IT staff for fiscal year 2015.

We will summarize and/or included in the request for OMB approval of the ICR, the comments received in response to this comment request; they will also become a matter of public record.

Portia Wu,
Assistant Secretary for Employment and Training, Labor.

[FR Doc. 2015-10161 Filed 4-30-15; 8:45 am]

BILLING CODE 4510-FW-P